DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by August 10, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

Applicant: John W. Bussey, Jr., Jackson, MS, PRT-156522.

The applicant requests a permit to import the sport-hunted trophy of one male bontebok (Damaliscus pygargus pygargus) culled from a captive herd maintained under the management program of the Republic of South Africa, for the purpose of enhancement of the survival of the species.

Applicant: Joshua D. Parker, Denver City, TX, PRT-153408.

The applicant requests a permit to import the sport-hunted trophy of one male bontebok (Damaliscus pygargus pygargus) culled from a captive herd maintained under the management program of the Republic of South Africa, for the purpose of enhancement of the survival of the species.

Applicant: Timothy D. Akers, Richmond, KY, PRT-152951.

The applicant requests a permit to import the sport-hunted trophy of one male bontebok (Damaliscus pygargus pygargus) culled from a captive herd maintained under the management program of the Republic of South Africa, for the purpose of enhancement of the survival of the species.

Applicant: Mitchel Kalmanson, Maitland, FL, PRT-072945, 072948, 074389-074393, 074395, 074397, and 074398.

The applicant requests the re-issuance of permits for the re-export and re-import of 10 captive-born tigers (Panthera tigris) to and from worldwide locations for the purpose of enhancement of the species through conservation education. The permit numbers and animals are [072945, Chad; 072948, Toshiro; 074389, Weber; 074390, Pancho; 074391, Petra; 074392, Gandhi; 074393, Tasha; 074395, Chardon; 074397, Princesa; 074398, Isis]. This notification covers activities to be conducted by the applicant over a three-year period and the import of any potential progeny born while overseas.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: John M. Azevedo, Manteca, CA, PRT-156712.

The applicant requests a permit to import a polar bear (Ursus maritimus) sport hunted from the Southern Beaufort Sea polar bear population in Canada for personal, noncommercial use.

Applicant: Donald E. Thompson, Troy, MO, PRT-156806.

The applicant requests a permit to import a polar bear (Ursus maritimus) sport hunted from the Southern Beaufort Sea polar bear population in Canada for personal, noncommercial use.

Applicant: David B. Ball, Mobile, AL, PRT-157133.

The applicant requests a permit to import a polar bear (Ursus maritimus) sport hunted from the Norwegian Bay polar bear population in Canada for personal, noncommercial use.

Applicant: Michael G. West, Oneida, NY, PRT-155528.

The applicant requests a permit to import a polar bear (Ursus maritimus) sport hunted from the Northern Beaufort Sea polar bear population in Canada for personal, noncommercial use.

Applicant: Thomas J. Mason, Chippewa Falls, WI, PRT-154893.

The applicant requests a permit to import a polar bear (Ursus maritimus) sport hunted from the Foxe Basin polar bear population in Canada prior to February 18, 1997, for personal, noncommercial use.

Dated: June 21, 2007.
Melanie F. Goddard Brose,
Acting Senior Permit Biologist, Branch of Permits, Division of Management Authority.

[FR Doc. E7-13393 Filed 7-10-07; 8:45 am]

BILLING CODE 4310-55-P